FEDERAL MARITIME COMMISSION

Notice of Agreements Filed

The Commission hereby gives notice of the filing of the following agreements under the Shipping Act of 1984. Interested parties can review or obtain copies of agreements at the Washington, DC offices of the Commission, 800 North Capitol Street, NW., Room 940. Interested parties may submit comments on an agreement to the Secretary, Federal Maritime Commission, Washington, DC 20573, within 10 days of the date this notice appears in the Federal Register.

Agreement Nos.: 010050-012.

Title: U.S. Flag Discussion Agreement.

Parties: American President Lines, Ltd. and A.P. Moller-Maersk A/S.

Synopsis: The amendment expands the geographic scope of the agreement to include ports in Africa and Eastern Europe and updates Maersk Sealand's name.

Agreement No.: 011075-064.

Title: Central America Discussion Agreement.

Parties: APL Co. Pte Ltd.; A.P. Moller-Maersk A/S; Crowley Liner Services, Inc.; Dole Ocean Cargo Express; King Ocean Services Limited; and Seaboard Marine, Ltd.

Synopsis: The amendment adds Lykes Lines Limited, LLC as a party to the agreement.

Agreement No.: 011865.

Title: CMA-CGM/LT Amerigo Express MUS Slot Charter Agreement.

Parties: CMA CGM, S.A. and Lloyd Triestino di Navigazione S.p.A.

Synopsis: The proposed agreement would authorize CMA CGM to charter space to Lloyd Triestino in the trade between the East Coast of the United States and the western Mediterranean Sea.

Dated: October 24, 2003.
By Order of the Federal Maritime Commission
Bryant L. VanBrakle,
Secretary.

[FR Doc. 03-27278 Filed 10-28-03; 8:45 am]

BILLING CODE 6730-01-P